DEPARTMENT OF ENERGY

Federal Energy Regulatory Commission

[Project No. 2911-045]

Southeast Alaska Power Agency; Notice of Intent To File License Application, Filing of Pre-Application Document, Approving Use of the Traditional Licensing Process

a. Type of Filing: Notice of Intent to File License Application and Request to Use the Traditional Licensing Process.

b. Project No.: 2911-045.

c. Date Filed: May 13, 2025.

d. Submitted By: Southeast Alaska Power Agency.

e. Name of Project: Swan Lake Hydroelectric Project.

f. Location: On Falls Creek on Revillagigedo Island, approximately 22 miles northeast of Ketchikan, Alaska. The current license states the project occupies a total of 321.3 acres of federal lands administered by the U.S. Forest Service within the Tongass National Forest.

g. Filed Pursuant to: 18 CFR 5.3 of the Commission's regulations.

h. Potential Applicant Contact: Mark Hilson, 55 Don Finny Lane, Ketchikan, AK 99901; 907-228-2017; email—mhilson@seapahdro.org, Laura Cowan, 1500 NE Irving Street, Suite 550, Portland, OR 97232; 717983-4056; Laura.Cowan@kleinschmidtgroup.com.

i. FERC Contact: Michael Tust at (202) 502-6522; or email at Michael.tust@ferc.gov.

j. Southeast Alaska Power Agency filed its request to use the Traditional Licensing Process on May 13, 2025. Southeast Alaska Power Agency provided public notice of its request on May 7, 2025. In a letter dated July 8, 2025, the Director of the Division of Hydropower Licensing approved Southeast Alaska Power Agency' request to use the Traditional Licensing Process.

k. With this notice, we are initiating informal consultation with the U.S. Fish and Wildlife Service and the National Marine Fisheries Service under section 7 of the Endangered Species Act and the joint agency regulations thereunder at 50 CFR, Part 402; and the National Marine Fisheries Service under section 305(b) of the Magnuson-Stevens Fishery Conservation and Management Act and implementing regulations at 50 CFR 600.920. We are also initiating consultation with the Alaska State Historic Preservation Officer, as required by section 106, National Historic Preservation Act, and the implementing regulations of the Advisory Council on Historic Preservation at 36 CFR 800.2.

l. With this notice, we are designating the Southeast Alaska Power Agency as the Commission's non-federal representative for carrying out informal consultation pursuant to section 7 of the Endangered Species Act and section 305(b) of the Magnuson-Stevens Fishery Conservation and Management Act; and consultation pursuant to section 106 of the National Historic Preservation Act.

m. Southeast Alaska Power Agency filed a Pre-Application Document (PAD; including a proposed process plan and schedule) with the Commission, pursuant to 18 CFR 5.6 of the Commission's regulations.

n. A copy of the PAD may be viewed and/or printed on the Commission's website http://www.ferc.gov using the “eLibrary” link. Enter the docket number, excluding the last three digits in the docket number field to access the document. For assistance, contact FERC at FERCOnlineSupport@ferc.gov or call toll free, (886) 208-3676 or TTY (202) 502-8659.

You may register online at https://ferconline.ferc.gov/FERCOnline.aspx to be notified via email of new filings and issuances related to this or other pending projects. For assistance, contact FERC Online Support.

o. The licensee states its unequivocal intent to submit an application for a new license for Project No. 2911-045. Pursuant to 18 CFR 16.8, 16.9, and 16.10 each application for a new license and any competing license applications must be filed with the Commission at least 24 months prior to the expiration of the existing license. All applications for license for this project must be filed by June 30, 2028.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 9, 2025.
Carlos D. Clay,
Deputy Secretary.

[FR Doc. 2025-13108 Filed 7-11-25; 8:45 am]

BILLING CODE 6717-01-P